DEPARTMENT OF COMMERCE

International Trade Administration

[A-580-874]

Certain Steel Nails From the Republic of Korea: Preliminary Results of Antidumping Duty Administrative Review, Preliminary Determination of No Shipments, and Partial Rescission of Antidumping Duty Administrative Review; 2021-2022

AGENCY: Enforcement and Compliance, International Trade Administration, Department of Commerce.

SUMMARY: The U.S. Department of Commerce (Commerce) preliminarily determines that certain steel nails (steel nails) from the Republic of Korea (Korea) were sold in the United States at less than normal value (NV) during the period of review (POR) of July 1, 2021, through June 30, 2022. Interested parties are invited to comment on these preliminary results.

DATES: Applicable July 31, 2023.

FOR FURTHER INFORMATION CONTACT: Ashley Cossaart or Paul Gill, AD/CVD Operations, Office IX, Enforcement and Compliance, International Trade Administration, U.S. Department of Commerce, 1401 Constitution Avenue NW, Washington, DC 20230; telephone: (202) 482-0462 or (202) 482-5673, respectively.

SUPPLEMENTARY INFORMATION:

Background

On July 13, 2015, Commerce published in the Federal Register an antidumping duty order on steel nails from Korea.¹ On September 6, 2022, based on a timely request for review, in accordance with 19 CFR 351.221(c)(1)(i), we initiated an administrative review of the Order covering 121 producers and/or exporters of the subject merchandise.² On March 9, 2023, Commerce extended the preliminary results of this review to no later than July 28, 2023.³ For a complete description of the events that followed the initiation of this review, see the Preliminary Decision Memorandum.⁴

¹ See Certain Steel Nails from the Republic of Korea, Malaysia, the Sultanate of Oman, Taiwan, and the Socialist Republic of Vietnam: Antidumping Duty Orders, 80 FR 39994 (July 13, 2015) (Order).

² See Initiation of Antidumping and Countervailing Duty Administrative Reviews, 87 FR 54463 (September 6, 2022).

³ See Memorandum, “Certain Steel Nails from the Republic of Korea: Extension of Deadline for Preliminary Results of 2021-2022 Antidumping Duty Administrative Review,” dated March 9, 2023.

⁴ See Memorandum, “Decision Memorandum for the Preliminary Results of the 2021-2022 Administrative Review of the Antidumping Duty Order on Certain Steel Nails from the Republic of Korea,” dated concurrently with, and hereby adopted by, this notice (Preliminary Decision Memorandum).

Scope of the Order

The merchandise subject to the Order is steel nails from Korea. For a complete description of the scope of the Order, see the Preliminary Decision Memorandum.

Partial Rescission of Administrative Review

Pursuant to 19 CFR 351.213(d)(1), Commerce will rescind an administrative review, in whole or in part, if a party who requested the review withdraws the request within 90 days of the date of publication of the notice of initiation of the requested review. On September 21, 2022, the petitioner ⁵ timely withdrew its request for Nailtech Co., Ltd. (Nailtech).⁶ Because the request for administrative review of Nailtech was timely withdrawn, and no other parties requested a review of this company, Commerce is rescinding this review with respect to Nailtech.

⁵ The petitioner is Mid Continent Steel & Wire, Inc.

⁶ See Petitioner's Letter, “Certain Steel Nails from Korea—Withdrawal of Review Request,” dated September 21, 2022.

Preliminary Determination of No Shipments

Among the companies under review, Astrotech Steels Private Limited (Astrotech) and Geekay Wires Limited (Geekay) properly filed statements that they made no shipments of subject merchandise to the United States during the POR.⁷ Based on their certifications and our analysis of U.S. Customs and Border Protection (CBP) information, we preliminary determine that Astrotech and Geekay had no reviewable transactions during the POR.⁸ Consistent with our practice, we are not preliminarily rescinding the review with respect to these companies. Instead, we will complete the review and issue appropriate instructions to CBP based on the final results of this review.⁹

⁷ See Geekay's Letter, “Certain Steel Nails—Republic of Korea: Request for No Shipment during the Period of Review (POR),” dated September 21, 2022; see also Astrotech's Letter, “Certain Steel Nails from Republic of Korea—Request for No Shipment during the Period of Review (POR),” dated September 29, 2022.

⁸ See Memorandum, “No Shipment Inquiry for Astrotech Steels Private Limited and Geekay Wires Limited during the period 07/01/2021 through 06/30/2022,” dated July 20, 2023.

⁹ See, e.g., Welded Line Pipe from the Republic of Korea: Preliminary Results of Antidumping Duty Administrative Review and Preliminary Determination of No Shipments; 2019-2020, 87 FR 928 (January 7, 2022), unchanged in Welded Line Pipe from the Republic of Korea: Final Results of Antidumping Duty Administrative Review; 2019-2020, 87 FR 38061 (June 27, 2022).

Methodology

Commerce is conducting this review in accordance with sections 751(a)(1)(B) and (2) of the Tariff Act of 1930, as amended (the Act). We calculated export price in accordance with section 772 of the Act. We calculated NV in accordance with section 773 of the Act.

For a full description of the methodology underlying our conclusions, see the Preliminary Decision Memorandum. A list of the topics discussed in the Preliminary Decision Memorandum is attached as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Results of Review

As a result of this review, we preliminarily determine that the following weighted-average dumping margins exist for the period July 1, 2021, through June 30, 2022:

Exporter/producer | Weighted- average dumping margin (percent)
Daejin Steel Company | 0.66
Korea Wire Co., Ltd | 0.00
Companies Not Selected for Individual Review ¹⁰ | 0.66

Review-Specific Rate for Companies Not Selected for Individual Review

The Act and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the weighted-average dumping margin for companies which were not selected for individual examination in an administrative review. Under section 735(c)(5)(A) of the Act, the all-others rate is normally equal to the weighted average of the estimated weighted-average dumping margins established for exporters and producers individually examined, excluding any margins that are zero, de minimis (i.e., less than 0.5 percent), or determined entirely on the basis of facts available.

¹⁰ The exporters and/or producers not selected for individual review are listed in Appendix II.

For these preliminary results, because the rate calculated for Korea Wire Co., Ltd. (KOWIRE) is zero, we have preliminarily assigned a dumping margin to these companies based on the rate calculated for Daejin Steel Company (Daejin).

Disclosure and Public Comment

Commerce intends to disclose the calculations performed in connection with these preliminary results to interested parties within five days after the date of publication of this notice.¹¹ Interested parties may submit case briefs to Commerce no later than 30 days after the date of publication of this notice.¹² Rebuttal briefs, limited to issues raised in the case briefs, may be filed no later than seven days after the time limit for filing case briefs.¹³ Parties who submit case briefs or rebuttal briefs in this proceeding are encouraged to submit with each argument: (1) a statement of the issue; (2) a brief summary of the argument; and (3) a table of authorities.¹⁴ Case and rebuttal briefs should be filed using ACCESS.¹⁵

¹¹ See 19 CFR 351.224(b).

¹² See 19 CFR 351.309(c).

¹³ See 19 CFR 351.309(d).

¹⁴ See 19 CFR 351.309(c)(2) and (d)(2).

¹⁵ See 19 CFR 351.303.

Pursuant to 19 CFR 351.310(c), interested parties who wish to request a hearing must submit a written request to the Assistant Secretary for Enforcement and Compliance, U.S. Department of Commerce, filed electronically via ACCESS within 30 days after the date of publication of this notice.¹⁶ Hearing requests should contain: (1) the party's name, address, and telephone number; (2) the number of participants; and (3) a list of issues to be discussed. Oral presentations at the hearing will be limited to issues raised in the briefs. If a request for a hearing is made, parties will be notified of the time and date for the hearing.¹⁷

¹⁶ See 19 CFR 351.310(c).

¹⁷ See 19 CFR 351.310(d).

An electronically-filed document must be received successfully in its entirety by ACCESS by 5:00 p.m. Eastern Time on the established deadline. Note that Commerce has temporarily modified certain of its requirements for serving documents containing business proprietary information, until further notice.¹⁸

¹⁸ See Temporary Rule Modifying AD/CVD Service Requirements Due to COVID-19; Extension of Effective Period, 85 FR 41363 (July 10, 2020).

Commerce intends to issue the final results of this administrative review, including the results of its analysis of issues raised in any written briefs, not later than 120 days after the date of publication of this notice in the Federal Register, unless otherwise extended.¹⁹

¹⁹ See section 751(a)(3)(A) of the Act.

Assessment Rates

Upon completion of the administrative review, Commerce shall determine, and CBP shall assess, antidumping duties on all appropriate entries covered by this review.²⁰ Pursuant to 19 CFR 351.212(b)(1), because both respondents reported the entered value for all of their U.S. sales, we calculated importer-specific ad valorem duty assessment rates based on the ratio of the total amount of antidumping duties calculated for the examined sales to the total entered value of the sales for which entered value was reported. Where either the respondent's weighted-average dumping margin is zero or de minimis within the meaning of 19 CFR 351.106(c), or an importer-specific rate is zero or de minimis, we will instruct CBP to liquidate the appropriate entries without regard to antidumping duties.

²⁰ See 19 CFR 351.212(b)(1).

Commerce's “automatic assessment” will apply to entries of subject merchandise during the POR produced by Daejin or KOWIRE for which these companies did not know that the merchandise they sold to the intermediary (e.g., a reseller, trading company, or exporter) was destined for the United States. In such instances, we will instruct CBP to liquidate unreviewed entries at the all-others rate if there is no rate for the intermediate company(ies) involved in the transaction.²¹

²¹ For a full discussion of this practice, see Antidumping and Countervailing Duty Proceedings: Assessment of Antidumping Duties, 68 FR 23954 (May 6, 2003).

For the companies which were not selected for individual review, we will assign an assessment rate based on the review-specific rate, calculated as noted in the “Review-Specific Rate for Companies Not Selected for Individual Review” section, above. Further, if we continue to find in the final results that Astrotech and Geekay had no shipments of subject merchandise during the POR, we will instruct CBP to liquidate any suspended entries that entered under these companies' antidumping duty case numbers at the all-others rate.

The final results of this review shall be the basis for the assessment of antidumping duties on entries of merchandise covered by the final results of this review and for future deposits of estimated duties, where applicable.²²

²² See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) the cash deposit rate for the companies listed above will be equal to the weighted-average dumping margin established in the final results of this review, except if the rate is less than 0.50 percent and, therefore, de minimis within the meaning of 19 CFR 351.106(c)(1), in which case the cash deposit rate will be zero; (2) for previously reviewed or investigated companies not covered by this review, the cash deposit will continue to be the company-specific rate published for the most recently completed segment of this proceeding in which the company participated; (3) if the exporter is not a firm covered in this review, or the LTFV investigation, but the producer is, the cash deposit rate will be the rate established for the most recently completed segment for the producer of the subject merchandise; and (4) the cash deposit rate for all other producers or exporters will continue to be 11.80 percent, the all-others rate established in the LTFV investigation.²³ These deposit requirements, when imposed, shall remain in effect until further notice.

²³ See Order, 80 FR at 39996.

Notification to Importers

This notice serves as a preliminary reminder to importers of their responsibility under 19 CFR 351.402(f) to file a certificate regarding the reimbursement of antidumping duties prior to liquidation of the relevant entries during this review period. Failure to comply with this requirement could result in the Commerce's presumption that reimbursement of antidumping duties occurred and the subsequent assessment of double antidumping duties.

Notification to Interested Parties

We are issuing and publishing these results in accordance with sections 751(a)(1) and 777(i)(1) of the Act, and 19 CFR 351.221(b)(4).

Dated: July 25, 2023.
Abdelali Elouaradia,
Deputy Assistant Secretary for Enforcement and Compliance.

Appendix I

List of Topics Discussed in the Preliminary Decision Memorandum

I. Summary

II. Background

III. Scope of the Order

IV. Discussion of the Methodology

V. Currency Conversion

VI. Recommendation

Appendix II

Review-Specific Rate Applicable to Company Not Selected for Individual Review

1. Agl Co., Ltd.

2. Americana Express (Shandong) Co. Ltd.

3. Ansing Fasteners Co. Ltd.

4. Beijing Catic Industry Limited

5. Beijing Jinheung Co., Ltd.

6. Big Mind Group Co., Ltd.

7. Changzhou Kya Trading Co., Ltd.

8. China Staple Enterprise Tianjin Co. Ltd.

9. D&F Material Products Ltd.

10. De Well Group Korea Co., Ltd.

11. Dezhou Hualude Hardware Products Co. Ltd.

12. DLF Industry Co., Limited

13. Doublemoon Hardware Company Ltd.

14. DT China (Shanghai) Ltd.

15. Duo-Fast Korea Co. Ltd.

16. Ejen Brothers Limited

17. England Rich Group (China) Ltd.

18. Ever Leading International Inc.

19. Fastgrow International Co., Inc.

20. Glovis America, Inc.

21. GWP Industries (Tianjin) Co., Ltd.

22. Haas Automation Inc.

23. Han Express Co. Ltd.

24. Handuk Industrial Co., Ltd.

25. Hanmi Staple Co., Ltd.

26. Hebei Minmetals Co., Ltd.

27. Hebei Longshengyuan Trade Co Ltd.

28. Hebei Cangzhou New Century Foreign Trade Co., Ltd.

29. Hebei Shinyee Trade Co., Ltd.

30. Hengtuo Metal Products Company Limited

31. Home Value Co., Ltd.

32. Hongyi (Hk) Hardware Products Co., Limited

33. Hongyi (Hk) Industrial Co., Limited

34. Huanghua RC Business Co., Ltd.

35. Huanghua Yingjin Hardware Products Co., Ltd.

36. Inmax Industries Sdn. Bhd.

37. JCD Group Co., Limited

38. Je-il Wire Production Co., Ltd.

39. Jinheung Steel Corporation

40. Jining Jufu International Trade Co.

41. Jinsco International Corporation

42. Joo Sung Sea & Air Co., Ltd.

43. Jushiqiangsen (Tianjin) International Trade Co., Ltd.

44. Kabool Fasteners Co. Ltd.

45. KB Steel

46. Kerry-Apex (Thailand) Co., Ltd.

47. Koram Inc.

48. KPF Co., Ltd.

49. Kuehne & Nagel Ltd.

50. Linyi Double-Moon Hardware Products Co., Ltd.

51. Linyi Flyingarrow Imp. & Exp. Co., Ltd.

52. Linyi Jianchengde Metal Hardware Co.

53. Linyi Yitong Chain Co., Ltd.

54. Manho Rope and Wire Ltd.

55. Max Co., Ltd.

56. Mingguang Ruifeng Hardware Products Co., Ltd.

57. Nanjing Senqiao Trading Co., Ltd.

58. Needslink, Inc.

59. Ocean King International Industries Limited

60. Paslode Fasteners (Shanghai) Co., Ltd.

61. Peace Korea Co., Ltd.

62. Qingdao Ant Hardware Manufacturing Co., Ltd.

63. Qingdao Best World Industry-Trading Co., Ltd.

64. Qingdao Cheshire Trading Co., Ltd.

65. Qingdao Hongyuan Nail Industry Co., Ltd.

66. Qingdao Jcd Machinery Co., Ltd.

67. Qingdao Jiawei Industry Co., Limited

68. Qingdao Jisco Co., Ltd.

69. Qingdao Master Metal Products Co., Ltd.

70. Qingdao Meijialucky Industry and Co.

71. Qingdao Mst Industry And Commerce Co., Ltd.

72. Qingdao Ruitai Trade Co., Ltd.

73. Qingdao Shantron Int'l Trade Co., Ltd.

74. Qingdao Shenghengtong Metal Products Co., Ltd.

75. Qingdao Sunrise Metal Products Co., Ltd.

76. Qingdao Tian Heng Xiang Metal Products Co., Ltd.

77. Qingdao Top Metal Industrial Co., Ltd.

78. Rewon Systems, Inc.

79. Rise Time Industrial Ltd.

80. Shandong Dominant Source Group Co., Ltd.

81. Shandong Guomei Industry Co., Ltd.

82. Shanghai Curvet Hardware Products Co., Ltd.

83. Shanghai Goldenbridge International Co., Ltd.

84. Shanghai Pinnacle International Trading Co., Ltd.

85. Shanghai Zoonlion Industrial Co., Ltd.

86. Shanxi Pioneer Hardware Industrial Co., Ltd.

87. Shanxi Sanhesheng Trade Co., Ltd.

88. Shaoxing Bohui Import & Export Co., Ltd.

89. Shijiazhuang Yajiada Metal Products Co., Ltd.

90. Shijiazhuang Tops Hardware Manufacturing Co., Ltd.

91. Shin Jung TMS Corporation Ltd.

92. SSS Hardware International Trading Co., Ltd.

93. Storeit Services LLP

94. Test Rite International Co., Ltd.

95. Tangshan Jason Metal Materials Co., Ltd.

96. The Inno Steel Industry Company

97. Tianjin Bluekin Industries Limited.

98. Tianjin Coways Metal Products Co., Ltd.

99. Tianjin Hweschun Fasteners Manufacturing Co. Ltd.

100. Tianjin Jinchi Metal Products Co., Ltd.

101. Tianjin Jinghai County Hongli Industry and Business Co., Ltd.

102. Tianjin Jinzhuang New Material Sci Co., Ltd.

103. Tianjin Lianda Group Co., Ltd.

104. Tianjin Zhonglian Metals Ware Co., Ltd.

105. Tianjin Zhonglian Times Technology Co., Ltd.

106. Un Global Company Limited

107. Unicorn (Tianjin) Fasteners Co., Ltd.

108. United Company For Metal Products

109. W&K Corporation Limited

110. Weifang Wenhe Pneumatic Tools Co., Ltd.

111. Wulian Zhanpengmetals Co., Ltd.

112. WWL India Private Ltd.

113. Xian Metals And Minerals Import And Export Co., Ltd.

114. Youngwoo Fasteners Co., Ltd.

115. Zhangjiagang Lianfeng Metals Products Co., Ltd.

116. Zhaoqing Harvest Nails Co., Ltd.

[FR Doc. 2023-16199 Filed 7-28-23; 8:45 am]

BILLING CODE 3510-DS-P